DEPARTMENT OF THE TREASURY

Office of Foreign Assets Control

31 CFR Part 587

Publication of Russian Harmful Foreign Activities Sanctions Regulations Web General Licenses 14, 15, 16, 17, 17A, 18, 19, and 20

AGENCY: Office of Foreign Assets Control, Treasury.

ACTION: Publication of Web General Licenses.

SUMMARY: The Department of the Treasury's Office of Foreign Assets Control (OFAC) is publishing eight general licenses (GLs) issued in the Russian Harmful Foreign Activities Sanctions program: GLs 14, 15, 16, 17, 17A, 18, 19, and 20, each of which was previously made available on OFAC's website.

DATES: GL 14 was issued on March 2, 2022. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

OFAC issued each of these eight GLs to authorize certain activities prohibited by the Russian Harmful Foreign Activities Sanctions Regulations, 31 CFR part 587. On March 2, 2022, OFAC issued GL 14; on March 3, 2022, OFAC issued GL 15; on March 8, 2022, OFAC issued GL 16, with an expiration date of April 22, 2022; on March 11, 2022, OFAC issued GL 17, with an expiration date of March 25, 2022. On March 24, 2022, OFAC issued GL 17A, which superseded GL 17. GL 17A had different expiration dates for different provisions: paragraph (a) of GL 17A had an expiration date of March 25, 2022, and paragraph (b) had an expiration date of June 23, 2022. On March 11, 2022, OFAC issued GLs 18 and 19; and on March 24, 2022, OFAC issued GL 20.

At the time of issuance, OFAC made GLs 14, 15, 16, 17, 17A, 18, 19, and 20 available on its website (www.treas.gov/ofac). The text of these GLs is provided below.

OFFICE OF FOREIGN ASSETS CONTROL

Russian Harmful Foreign Activities Sanctions Regulations

31 CFR Part 587

GENERAL LICENSE NO. 14

Authorizing Certain Clearing and Settlement Transactions Prohibited by Directive 4 Under Executive Order 14024

(a) Except as provided in paragraph (b) of this general license, all transactions prohibited by Directive 4 under Executive Order (E.O.) 14024, Prohibitions Related to Transactions Involving the Central Bank of the Russian Federation, the National Wealth Fund of the Russian Federation, and the Ministry of Finance of the Russian Federation, involving the Central Bank of the Russian Federation, the National Wealth Fund of the Russian Federation, or the Ministry of Finance of the Russian Federation (collectively, “Directive 4 entities”), where the Directive 4 entity's sole function in the transaction is to act as an operator of a clearing and settlement system, are authorized, provided that: (i) there is no transfer of assets to or from any Directive 4 entity, unless separately authorized; and (ii) no Directive 4 entity is either a counterparty or a beneficiary to the transaction, unless separately authorized.

(b) This general license does not authorize any debit to an account on the books of a U.S. financial institution of any Directive 4 entity.

Andrea M. Gacki,

Director, Office of Foreign Assets Control.

Dated: March 2, 2022.

OFFICE OF FOREIGN ASSETS CONTROL

Russian Harmful Foreign Activities Sanctions Regulations

31 CFR Part 587

GENERAL LICENSE NO. 15

Authorizing Transactions Involving Certain Blocked Entities Owned by Alisher Burhanovich Usmanov

(a) Except as provided in paragraph (c) of this general license, all transactions prohibited by the Russian Harmful Foreign Activities Sanctions Regulations, 31 CFR part 587 (RuHSR), involving any entity owned 50 percent or more, directly or indirectly, by Alisher Burhanovich Usmanov that is not listed on OFAC's Specially Designated Nationals and Blocked Persons List (“blocked Usmanov entity”) are authorized.

(b) Except as provided in paragraph (c) of this general license, all property and interests in property of the blocked Usmanov entities are unblocked, and debits to accounts on the books of a U.S. financial institution of the blocked Usmanov entities are authorized.

(c) This general license does not authorize any transactions otherwise prohibited by the RuHSR or involving any person blocked or otherwise sanctioned pursuant to the RuHSR, including Alisher Burhanovich Usmanov, or his property or interests in property, other than the blocked Usmanov entities, unless separately authorized.

Andrea M. Gacki,

Director, Office of Foreign Assets Control.

Dated: March 3, 2022.

OFFICE OF FOREIGN ASSETS CONTROL

Russian Harmful Foreign Activities Sanctions Regulations

31 CFR Part 587

GENERAL LICENSE NO. 16

Authorizing Transactions Related to Certain Imports Prohibited by Executive Order of March 8, 2022

Prohibiting Certain Imports and New Investments With Respect to Continued Russian Federation Efforts To Undermine the Sovereignty and Territorial Integrity of Ukraine

(a) Except as provided in paragraph (b) of this general license, all transactions prohibited by Executive Order (E.O.) of March 8, 2022, Prohibiting Certain Imports and New Investments With Respect to Continued Russian Federation Efforts to Undermine the Sovereignty and Territorial Integrity of Ukraine, that are ordinarily incident and necessary to the importation into the United States of crude oil; petroleum; petroleum fuels, oils, and products of their distillation; liquefied natural gas; coal; and coal products of Russian Federation origin pursuant to written contracts or written agreements entered prior to March 8, 2022 are authorized through 12:01 a.m. eastern daylight time, April 22, 2022.

(b) This general license does not authorize any transactions otherwise prohibited by the Russian Harmful Foreign Activities Sanctions Regulations, 31 CFR part 587 (RuHSR), including involving any person blocked pursuant to the RuHSR, unless separately authorized.

Andrea M. Gacki,

Director, Office of Foreign Assets Control.

Dated: March 8, 2022.

OFFICE OF FOREIGN ASSETS CONTROL

Russian Harmful Foreign Activities Sanctions Regulations

31 CFR Part 587

GENERAL LICENSE NO. 17

Authorizing Transactions Related to Certain Imports Prohibited by Executive Order of March 11, 2022

(a) Except as provided in paragraph (b) of this general license, all transactions prohibited by section 1(a)(i) of Executive Order of March 11, 2022, Prohibiting Certain Imports, Exports, and New Investment With Respect to Continued Russian Federation Aggression, that are ordinarily incident and necessary to the importation into the United States of fish, seafood, and preparations thereof; alcoholic beverages; or non-industrial diamonds of Russian Federation origin pursuant to written contracts or written agreements entered into prior to March 11, 2022 are authorized through 12:01 a.m. eastern daylight time, March 25, 2022.

(b) This general license does not authorize any transactions otherwise prohibited by the Russian Harmful Foreign Activities Sanctions Regulations, 31 CFR part 587 (RuHSR), including involving any person blocked pursuant to the RuHSR, unless separately authorized.

Andrea M. Gacki,

Director, Office of Foreign Assets Control.

Dated: March 11, 2022.

OFFICE OF FOREIGN ASSETS CONTROL

Russian Harmful Foreign Activities Sanctions Regulations

31 CFR Part 587

GENERAL LICENSE NO. 17A

Authorizing Transactions Related to Certain Imports Prohibited by Executive Order 14068

(a) Except as provided in paragraph (c) of this general license, all transactions prohibited by section 1(a)(i) of Executive Order (E.O.) 14068 that are ordinarily incident and necessary to the importation into the United States of alcoholic beverages or non-industrial diamonds of Russian Federation origin pursuant to written contracts or written agreements entered into prior to March 11, 2022 are authorized through 12:01 a.m. eastern daylight time, March 25, 2022.

(b) Except as provided in paragraph (c) of this general license, all transactions prohibited by section 1(a)(i) of E.O. 14068 that are ordinarily incident and necessary to the importation into the United States of fish, seafood, and preparations thereof of Russian Federation origin pursuant to written contracts or written agreements entered into prior to March 11, 2022 are authorized through 12:01 a.m. eastern daylight time, June 23, 2022.

(c) This general license does not authorize any transactions otherwise prohibited by the Russian Harmful Foreign Activities Sanctions Regulations, 31 CFR part 587 (RuHSR), including involving any person blocked pursuant to the RuHSR, unless separately authorized.

(d) Effective March 24, 2022, General License No. 17, dated March 11, 2022, is replaced and superseded in its entirety by this General License No. 17A.

Andrea M. Gacki,

Director, Office of Foreign Assets Control.

Dated: March 24, 2022.

OFFICE OF FOREIGN ASSETS CONTROL

Russian Harmful Foreign Activities Sanctions Regulations

31 CFR Part 587

GENERAL LICENSE NO. 18

Authorizing U.S. Dollar-Denominated Banknote Noncommercial, Personal Remittances Prohibited by Executive Order of March 11, 2022

(a)(1) Except as provided in paragraph (b) of this general license, all transactions prohibited by section (1)(a)(iv) of Executive Order of March 11, 2022, Prohibiting Certain Imports, Exports, and New Investment With Respect to Continued Russian Federation Aggression, that are ordinarily incident and necessary to the transfer of U.S. dollar-denominated banknote noncommercial, personal remittances from: (i) the United States or a U.S. person, wherever located, to an individual located in the Russian Federation; or (ii) a U.S. person who is an individual located in the Russian Federation, are authorized.

Note to paragraph (a)(1). Noncommercial, personal remittances do not include charitable donations to or for the benefit of an entity or funds transfers for use in supporting or operating a business, including a family-owned business.

(2) Transferring institutions may rely on the originator of a funds transfer with regard to compliance with paragraph (a)(1) of this general license, provided that the transferring institution does not know or have reason to know that the funds transfer is not in compliance with paragraph (a)(1).

(b) This general license does not authorize any transactions otherwise prohibited by the Russian Harmful Foreign Activities Sanctions Regulations, 31 CFR part 587 (RuHSR), or involving any person blocked pursuant to RuHSR, unless separately authorized.

Andrea M. Gacki,

Director, Office of Foreign Assets Control.

Dated: March 11, 2022.

OFFICE OF FOREIGN ASSETS CONTROL

Russian Harmful Foreign Activities Sanctions Regulations

31 CFR Part 587

GENERAL LICENSE NO. 19

Authorizing Transactions Related to Personal Maintenance of U.S. Individuals Located in the Russian Federation Prohibited by Executive Order of March 11, 2022

(a) Except as provided in paragraph (b) of this general license, individuals who are U.S. persons located in the Russian Federation are authorized to engage in all transactions prohibited by section 1(a)(iv) of Executive Order of March 11, 2022, Prohibiting Certain Imports, Exports, and New Investment With Respect to Continued Russian Federation Aggression, that are ordinarily incident and necessary to their personal maintenance within the Russian Federation, including payment of housing expenses, acquisition of goods or services for personal use, payment of taxes or fees, and purchase or receipt of permits, licenses, or public utility services.

(b) This general license does not authorize any transactions otherwise prohibited by the Russian Harmful Foreign Activities Sanctions Regulations, 31 CFR part 587 (RuHSR), including involving any person blocked pursuant to the RuHSR, unless separately authorized.

Andrea M. Gacki,

Director, Office of Foreign Assets Control.

Dated: March 11, 2022.

OFFICE OF FOREIGN ASSETS CONTROL

Russian Harmful Foreign Activities Sanctions Regulations

31 CFR Part 587

GENERAL LICENSE NO. 20

Authorizing Third-Country Diplomatic and Consular Funds Transfers

(a) Except as provided in paragraph (b) of this general license, U.S. persons are authorized to engage in all transactions ordinarily incident and necessary to the official business of third-country diplomatic or consular missions located in the Russian Federation that are prohibited by Executive Order (E.O.) 14024 or section 1(a)(iv) of E.O. 14068.

(b) This general license does not authorize:

(1) The opening or maintaining of a correspondent account or payable-through account for or on behalf of any entity subject to Directive 2 under E.O. 14024, Prohibitions Related to Correspondent or Payable-Through Accounts and Processing of Transactions Involving Certain Foreign Financial Institutions;

(2) Any debit to an account on the books of a U.S. financial institution of the Central Bank of the Russian Federation, the National Wealth Fund of the Russian Federation, or the Ministry of Finance of the Russian Federation;

(3) The exportation, reexportation, sale, or supply, directly or indirectly, from the United States, or by a United States person, wherever located, of U.S. dollar-denominated banknotes to the Government of the Russian Federation, other than the payment of taxes or fees, and purchase or receipt of permits, licenses, or public utility services; or

(4) Any transactions otherwise involving any person blocked pursuant to the Russian Harmful Foreign Activities Sanctions Regulations, 31 CFR part 587, unless separately authorized.

Andrea M. Gacki,

Director, Office of Foreign Assets Control.

Dated: March 24, 2022.

Andrea M. Gacki,
Director, Office of Foreign Assets Control.

[FR Doc. 2022-19510 Filed 9-8-22; 8:45 am]

BILLING CODE 4810-AL-P